DEPARTMENT OF THE INTERIOR

Bureau of Indian Affairs

Notice of Availability of the Draft Environmental Impact Statement for Section 14 Specific Plan on the Agua Caliente Indian Reservation, Riverside County, CA

AGENCY: Bureau of Indian Affairs, Interior.

ACTION: Notice.

SUMMARY: This notice advises the public that the Bureau of Indian Affairs (BIA) and the City of Palm Springs, in cooperation with the Agua Caliente Band of Cahuilla Indians, intend to file a draft Environmental Impact Statement/Environmental Impact Report (EIS/EIR) for approval of the Section 14 Master Development Plan on the Agua Caliente Indian Reservation, located within the boundaries of the City of Palm Springs, Riverside County, California. Details of the proposed action, location and areas of environmental concern are addressed in the DEIS/EIR and provided in the SUPPLEMENTARY INFORMATION section. This notice also announces a public hearing to receive comments on the DEIS/EIR.

DATES: Written comments on the DEIS/EIR must arrive by April 12, 2002. The public hearing will be held on Wednesday, April 3, 2002, from 7 p.m. to 9 p.m., or until the last public comment is received.

ADDRESSES: You may mail or hand carry written comments to Ronald Jaeger, Regional Director, Bureau of Indian Affairs, Pacific Regional Office, 2800 Cottage Way, Sacramento, California 95825-1846. Please include your name, return address and the caption, “DEIS/EIR Comments, Section 14 Master Plan, Riverside County, California,” on the first page of your written comments.

The public hearing will be at the Tahquitz Room of the Spa Resort Casino, 100 North Indian Canyon Drive, Palm Springs, California 92264. This meeting will be co-hosted by the BIA and Agua Caliente Band of Cahuilla Indians.

To obtain a copy of the DEIS/EIR, please write or call William Allan, Environmental Protection Specialist, Pacific Region, Bureau of Indian Affairs, 2800 Cottage Way, Sacramento, California 95825-1846, telephone (916) 978-6043. Copies of the DEIS/EIR are also available in the Agua Caliente Tribal Administration Office, 650 East Tahquitz Canyon Way, Palm Springs, and at the public library, 300 South Sunrise Way, Palm Springs.

FOR FURTHER INFORMATION CONTACT: William Allan, (916) 978-6043.

SUPPLEMENTARY INFORMATION: The proposed project is the approval of the Section 14 Master Development Plan, which facilitates approval of future leases on trust land in Section 14 by the BIA. Section 14 is located on the Agua Caliente Indian Reservation in downtown Palm Springs. It is comprised of tribally owned parcels, allotted parcels and parcels owned in fee. The section is bounded by Alejo Road to the north, Sunrise Road to the east, Ramon Road to the south and Indian Canyon Drive to the west. The 640 acre section is one block east of downtown Palm Springs and one mile west of Palm Springs Regional Airport.

The intent of the Section 14 Master Development Plan is to:

• Create an attractive, feasible and marketable vision for the area's future development;

• Achieve the highest and best use of Indian trust lands;

• Maximize and coordinate the development potential of Indian trust and fee lands in Section 14;

• Revitalize existing uses;

• Ensure compatibility with existing, proposed and planned development in the downtown area;

• Achieve a comprehensive master plan of development that is high quality, marketable and able to be implemented in a timely manner; and

• Provide a specific plan that ensures quality development will occur independent of ownership.

Businesses that are expected to be attracted and which will result in new construction include restaurants and various retail establishments. These establishments will consist of cinemas, live theaters, museums, and “entertainment retail” shopping where customers are entertained as they browse. There will also be health, sports and recreational complexes along with a large-scale hotel located across from the existing Convention Center.

In addition to the new development, existing structures will receive facade rehabilitation in order to blend in with the new destination resort theme of Section 14. Streets will also be redesigned and enhanced within Section 14 to promote a pedestrian-friendly destination resort environment.

Alternative transportation modes will be established within the area to help limit automobile traffic. Walkways and bikeways will be linked into the existing street grid and the major attractions of the area. Shade features such as awnings, overhangs and trellises will be established to attract both recreational and destination oriented pedestrians and cyclists. A rubber-tire shuttle will be installed linking Section 14, the airport and downtown, with stops at major hotels and attractions.

Alternatives to the proposed project that are considered in the DEIS/EIR include (1) no action, which will keep the City of Palm Springs General Plan in effect; (2) reduced intensity development; and (3) increased intensity development. Environmental issues addressed in the DEIS/ EIR include landform/topography, geology/soils/seismicity, hydrology/water quality, biological resources, cultural and scientific resources, land use, air quality, traffic/circulation, noise, health and safety, public services and utilities, and visual resources.

Public Comment Availability

Comments, including names and addresses of respondents, will be available for public review at the mailing address shown in the ADDRESSES section, during regular business hours, 9 a.m. to 4 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority: This notice is published in accordance with § 1503.1 of the Council on Environmental Quality Regulations (40 CFR, part 1500 through 1508) implementing the procedural requirements of the National Environmental Policy Act of 1969, as amended (42 U.S.C. 4371 et seq.), and the Department of the Interior Manual (516 DM 1-6), and is in the exercise of authority delegated to the Assistant Secretary—Indian Affairs by 209 DM 8.

Dated: January 23, 2002.
Neal A. McCaleb,
Assistant Secretary—Indian Affairs.

[FR Doc. 02-3068 Filed 2-7-02; 8:45 am]

BILLING CODE 4310-W7-P